DEPARTMENT OF ENERGY

Federal Energy Regulatory Commission

Combined Notice of Filings

Take notice that the Commission has received the following Natural Gas Pipeline Rate and Refund Report filings:

Filings Instituting Proceedings

Docket Numbers: RP12-292-000.

Applicants: Dauphin Island Gathering Partners.

Description: Dauphin Island Gathering Partners submits tariff filing per 154.204: Negotiated Rates 2012-01-06 to be effective 1/6/2012.

Filed Date: 1/6/12.

Accession Number: 20120106-5069.

Comments Due: 5 p.m. ET 1/18/12.

Docket Numbers: RP12-293-000.

Applicants: Trailblazer Pipeline Company LLC.

Description: Trailblazer Pipeline Company LLC submits tariff filing per 154.204: Negotiated Rate Filing—United Energy to be effective 1/7/2012.

Filed Date: 1/6/12.

Accession Number: 20120106-5076.

Comments Due: 5 p.m. ET 1/18/12.

Docket Numbers: RP12-294-000.

Applicants: Alliance Pipeline L.P.

Description: Alliance Pipeline L.P. submits tariff filing per 154.204: TAQA Assignment CNRL to be effective 1/1/2012.

Filed Date: 1/6/12.

Accession Number: 20120106-5077.

Comments Due: 5 p.m. ET 1/18/12.

Docket Numbers: RP12-295-000.

Applicants: Iroquois Gas Transmission System, L.P.

Description: Iroquois Gas Transmission System, L.P. submits tariff filing per 154.204: 01/06/12—Allocations and Curtailment to be effective 2/6/2012.

Filed Date: 1/6/12.

Accession Number: 20120106-5115.

Comments Due: 5 p.m. ET 1/18/12.

Docket Numbers: RP12-296-000.

Applicants: Carolina Gas Transmission Corporation.

Description: Carolina Gas Transmission Corporation's Interruptible Revenue Sharing Filing for Period Ending October 31, 2011.

Filed Date: 1/6/12.

Accession Number: 20120106-5119.

Comments Due: 5 p.m. ET 1/18/12.

Docket Numbers: RP12-297-000.

Applicants: Shell Energy North America (US) L.P.

Description: Joint Petition of Salmon Resources, Ltd and Shell Energy North America (US), L.P. for Temporary Waiver of Capacity Release Regulations and Policies, and Request for Shortened Comment Period and Expedited Treatment.

Filed Date: 1/6/12.

Accession Number: 20120106-5218.

Comments Due: 5 p.m. ET 1/13/12.

Any person desiring to intervene or protest in any of the above proceedings must file in accordance with Rules 211 and 214 of the Commission's Regulations (18 CFR 385.211 and 385.214) on or before 5 p.m. Eastern time on the specified comment date. Protests may be considered, but intervention is necessary to become a party to the proceeding.

Filings in Existing Proceedings

Docket Numbers: RP11-1942-002.

Applicants: Tennessee Gas Pipeline Company, L.L.C.

Description: Tennessee Gas Pipeline Company, L.L.C. submits tariff filing per 154.203: Quality Interchangeability Settlement Clean up Sheets 293, 304 to be effective 1/1/2012.

Filed Date: 1/6/12.

Accession Number: 20120106-5118.

Comments Due: 5 p.m. ET 1/18/12.

Docket Numbers: RP12-254-001.

Applicants: Gas Transmission Northwest LLC.

Description: Gas Transmission Northwest LLC submits tariff filing per 154.205(b): Amendment to RP12-254 to be effective 1/1/2012.

Filed Date: 1/6/12.

Accession Number: 20120106-5188.

Comments Due: 5 p.m. ET 1/18/12.

Any person desiring to protest in any the above proceedings must file in accordance with Rule 211 of the Commission's Regulations (18 CFR 385.211) on or before 5 p.m. Eastern time on the specified comment date.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated: January 9, 2012.
Nathaniel J. Davis, Sr.,
Deputy Secretary.

[FR Doc. 2012-641 Filed 1-13-12; 8:45 am]

BILLING CODE 6717-01-P